DEPARTMENT OF HEALTH AND HUMAN SERVICES

Administration for Children and Families

Submission for OMB Review; National Human Trafficking Hotline (NHTH) Performance Indicators

AGENCY: Office on Trafficking in Persons, Administration for Children and Families, HHS.

ACTION: Request for public comment.

SUMMARY: The Administration for Children and Families (ACF) is requesting approval for a new information collection: National Human Trafficking Hotline (NHTH) Performance Indicators.

DATES: Comments due within 30 days of publication. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: Section 107(b)(1)(B)(ii) of the Trafficking Victims Protection Act of 2000, as amended at 22 U.S.C. 7105(b)(1)(B)(ii), authorizes the Secretary of Health and Human Services (HHS) to make a grant for a national communication system—the NHTH—to assist victims of severe forms of trafficking in persons in seeking help, receiving referrals, and reporting potential trafficking cases.

HHS made an award in the form of a Cooperative Agreement to a single, competitively selected grantee to maintain and support operation of the NHTH throughout the United States and U.S. territories. The NHTH is a toll-free hotline that operates 24 hours a day, every day of the year.

The Cooperative Agreement delineates the roles and responsibilities for the administration of the grant program, which include:

1. Operating the NHTH with experienced and trained anti-trafficking advocates;

2. Operating the NHTH website and responding to online signals;

3. Promoting NHTH services to increase the identification and protection of victims of severe forms of human trafficking;

4. Providing timely information and service referrals to human trafficking victims using a trauma-informed, person-centered, culturally responsive, and linguistically appropriate approach;

5. Notifying law enforcement agencies of potential cases of human trafficking as well as instances when a trafficking victim is in imminent danger; and

6. Documenting emerging trafficking schemes to assist in the detection and investigation of trafficking cases.

The NHTH grantee collects information about signalers (individuals who contact the hotline) and from signalers regarding potential victims of a severe form of trafficking in persons and human trafficking cases. Given the unique relationship the NHTH has to the public, OTIP is seeking clearance to collect information about and from these signalers that will be summarized and reported to OTIP by the NHTH grantee in the aggregate. The NHTH Performance Indicators information collection will provide data for OTIP to assess the extent to which the grantee meets required program activities to:

• Ensure potential victims of trafficking remain able to access assistance by constantly monitoring and mitigating factors impacting NHTH operations;

• Assist the grantee to assess and improve their project over the course of the project period;

• Disseminate insights related to human trafficking cases and trends to inform anti-trafficking strategies and policies; and

• Provide information to Congress, other federal agencies, stakeholders, the public, and other countries on the aggregate outputs and outcomes of the NHTH operations.

In accordance with the Paperwork Reduction Act of 1995 (Pub. L. 104-13) and OMB regulations at 5 CFR part 1320, ACF published a notice in the Federal Register to announce the agency's intention to request OMB review of this information collection activity and provide a sixty-day period for public comment (86 FR 38489). During the notice and comment period, one comment was received from the NHTH grantee. The comment did not pertain to the burden estimate for respondents (signalers to the NHTH), rather the burden on the recordkeeper (the NHTH grantee).

To be responsive to this comment and reduce the burden on the recordkeeper, OTIP modified the collection to remove several of the data elements that were initially proposed. Where OTIP has requested any new data (e.g., data the grantee is not already providing to OTIP as a condition of award), particularly, for existing data to be further disaggregated, it is in the interest of allowing OTIP to:

• Monitor performance and operational issues;

• Generate more timely insights into trends related to victim demographics and service needs, and the impact of particular intra- and inter-agency efforts, messaging campaigns, trainings, and other anti-trafficking efforts on NHTH signals, and;

• Respond to congressional inquiries and other ad hoc inquiries without submitting burdensome individual requests to the NHTH.

Respondents: Potential victims, representatives of governmental entities, law enforcement, first responders, members of the community, representatives of nongovernmental entities providing social, legal, or protective services to individuals in the United States who may have been subjected to severe forms of trafficking in persons utilize the NHTH as signalers.

Annual Burden Estimates
Instrument | Total number of respondents (signalers) | Total number of responses per respondent | Average burden hours per response | Total burden hours | Annual burden hours
National Human Trafficking Hotline (NHTH) Performance Indicators | 585,300 | 1 | 0.43333333 | 253,630 | 84,543

Estimated Total Annual Burden Hours: 84,543.

Authority: 22 U.S.C. 7105.

Mary B. Jones,
ACF/OPRE Certifying Officer.

[FR Doc. 2021-27646 Filed 12-21-21; 8:45 am]

BILLING CODE 4184-47-P